DEPARTMENT OF COMMERCE

International Trade Administration

[A-427-098]

Anhydrous Sodium Metasilicate from France: Rescission of Antidumping Duty Administrative Review

AGENCY: Import Administration, International Trade Administration, Department of Commerce.

ACTION: Notice of rescission of antidumping duty administrative review.

SUMMARY: On February 26, 2002, the Department of Commerce initiated an administrative review of the antidumping duty order on anhydrous sodium metasilicate from France. The review covers one manufacturer/exporter, Rhodia HCPCII (formely known as Rhone-Poulenc). The period of review is January 1, 2001, through December 31, 2001. The Department is rescinding this review because it found no entries of subject merchandise by this company into the United States during the period of review.

EFFECTIVE DATE: June 5, 2002.

FOR FURTHER INFORMATION CONTACT: Dunyako Ahmadu or Richard Rimlinger, AD/CVD Enforcement 3, Import Administration, International Trade Administration, U.S. Department of Commerce, 14th Street and Constitution Avenue, N.W., Washington, D.C. 20230; telephone (202) 482-0198 or (202) 482-4477, respectively.

SUPPLEMENTARY INFORMATION:

The Applicable Statute

Unless otherwise indicated, all citations to the Tariff Act of 1930, as amended (the Act), are references to the provisions in effect as of January 1, 1995, the effective date of the Uruguay Round Agreements Act. In addition, unless otherwise indicated, all citations to the Department of Commerce's (the Department's) regulations are to the regulations at 19 CFR part 351 (2001).

Background

On January 2, 2002, the Department of Commerce (the Department) published in the Federal Register a notice of opportunity to request an administrative review of the antidumping duty order on anhydrous sodium metasilicate (ASM) from France (67 FR 56). On January 29, 2002, the petitioner in this proceeding, PQ Corporation, submitted a request for an administrative review of sales by Rhodia HCPII, a manufacturer/exporter of ASM, for the period January 1, 2001, through December 31, 2001. The Department initiated an administrative review on February 26, 2002, (67 FR 8780).

On April 24, 2002, Rhodia submitted a letter to the Department stating that it did not export the subject merchandise to the United States during the period of review (POR).

Also on April 24, 2002, the Department sent a no-shipment inquiry concerning Rhodia to the U.S. Customs Service (Customs). The purpose of this inquiry was to determine whether Customs suspended liquidation of entry summaries of ASM during the POR. The Customs Service did not identify any suspended entry summaries of ASM manufactured and/or exported by Rhodia during the POR. Therefore, we have determined that there were no entries of subject merchandise produced or exported by Rhodia into the customs territory of the United States during the POR.

Rescission of Review

Pursuant to 19 CFR 351.213(d)(3), the Department may rescind an administrative review, in whole, or only with respect to a particular exporter or producer, if the Department concludes that, during the period covered by the review, there were no entries, exports, or sales of the subject merchandise. In light of the fact that we have determined that the only company covered by the review did not have entries for consumption into the territory of the United States during the POR in question, we find that rescinding this review is appropriate. On May 1, 2002, we sent a letter to the petitioner to notify it of our findings and invited it to comment on our intent to rescind the review. The petitioner responded on May 16, 2002, stating that it does not object. Therefore, we are rescinding this administrative review. The cash-deposit rate for Rhodia will remain at 60 percent, the rate established in the most recently completed segment of this proceeding (66 FR 57934, November 19, 2001).

This notice is in accordance with section 777(i) of the Act and 19 CFR 351.213(d)(4).

Dated: May 24, 2002
Susan Kuhbach,
Acting Deputy Assistant Secretary Import Administration.

[FR Doc. 02-14071 Filed 6-4-02; 8:45 am]

BILLING CODE 3510-DS-S